DEPARTMENT OF TRANSPORTATION

Federal Aviation Administration

[Docket No. FAA-2020-0237]

Agency Information Collection Activities: Requests for Comments; Clearance of Renewed Approval of Information Collection: Commercial Aviation Safety Team Safety Enhancement Questionnaires

AGENCY: Federal Aviation Administration (FAA), DOT.

ACTION: Notice and request for comments.

SUMMARY: In accordance with the Paperwork Reduction Act of 1995, FAA invites public comments about our intention to request the Office of Management and Budget (OMB) approval to renew an information collection. The collection involves the collection of data for the Commercial Aviation Safety Team (CAST) to demonstrate voluntary participation with safety enhancements (SE). The CAST SEs are recommended best practices and implementation of the SEs is voluntary. It is vital for CAST to know the level of implantation of the SEs in order to determine the level of risk reduction in commercial aviation. To support this assessment CAST decided to gather information regarding the extent to which these SEs have been implemented by air carriers so it can determine if further action is required.

To facilitate this data collection for CAST, the FAA has developed an information collection (questionnaire) for key SEs that air carriers and operators are asked to complete using the FAA's existing web-based system, Web-based Operations Safety System (WebOPSS). Completion of the questionnaires is voluntary, and is requested of all current, now 61, part 121 certificate holders that the FAA oversees.

DATES: Written comments should be submitted by May 5, 2020.

ADDRESSES: Please send written comments:

By Electronic Docket: www.regulations.gov (Enter docket number into search field).

By mail: Sandra Ray, Federal Aviation Administration, Policy Integration Branch AFS-270, 1187 Thorn Run Road, Suite 200, Coraopolis, PA 15108.

By fax: 412-239-3063.

FOR FURTHER INFORMATION CONTACT: Sandra Ray by email at: Sandra.ray@faa.gov; phone: 412-329-3088

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0757.

Title: Commercial Aviation Safety Team Safety Enhancement Questionnaires.

Form Numbers: None.

Type of Review: Renewal of an information collection.

Background: The FAA is collecting safety related data regarding the voluntary implementation of Commercial Aviation Safety Team safety enhancements from certificate holders conducting operations under 14 CFR part 121. Certificate holder participation in this data collection will be voluntary and is not required by regulation. As CAST SEs are finalized, the FAA will determine the details of individual information collections in consultation with CAST and certificate holders.

Respondents: 61 Part 121 Certificate Holders.

Frequency: Information is collected on occasion.

Estimated Average Burden per Response: 40 minutes per response; estimated that each certificate holder will have 6 responses per year.

Estimated Total Annual Burden: 245 Hours.

Issued in Washington, DC, on March 3, 2020.
Sandra L. Ray,
Aviation Safety Inspector, FAA, Policy Integration Branch, AFS-270.

[FR Doc. 2020-04627 Filed 3-5-20; 8:45 am]

BILLING CODE 4910-13-P